DEPARTMENT OF HEALTH AND HUMAN SERVICES

Health Resources and Services Administration

Agency Information Collection Activities: Proposed Collection: Public Comment Request; Information Collection Request Title: The National Health Service Corps and Nurse Corps Interest Capture Form—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than March 13, 2023.

ADDRESSES: Submit your comments to paperwork@hrsa.gov or mail the HRSA Information Collection Clearance Officer, Room 14N136B, 5600 Fishers Lane, Rockville, Maryland 20857.

FOR FURTHER INFORMATION CONTACT: To request more information on the proposed project or to obtain a copy of the data collection plans and draft instruments, email paperwork@hrsa.gov or call Samantha Miller, the acting HRSA Information Collection Clearance Officer, at 301-594-4394.

SUPPLEMENTARY INFORMATION:

Information Collection Request Title: The National Health Service Corps (NHSC) and Nurse Corps Interest Capture Form OMB No. 0915-0337—Revision.

Abstract: The NHSC and the Nurse Corps Scholarship and Loan Repayment Programs of HRSA are both committed to improving the health of the nation's underserved by uniting communities in need with caring health professionals and by supporting communities' efforts to build better systems of care. The NHSC and Nurse Corps Interest Capture Form, which can be accessed on the HRSA website at https://bhw.hrsa.gov/about-us/ask-question, is an optional form that a health profession student, licensed clinician, faculty member, clinical site administrator, or other interested individual can complete and submit to HRSA online. The purpose of the form is to enable individuals and clinical sites to ask questions about the NHSC and/or Nurse Corps Scholarship and Loan Repayment Programs, and to provide their contact information so that HRSA may provide them with periodic program updates and other general information via email. Completed forms will contain information such as the names and roles of the individual(s), their phone number(s) and email address(es), and the HRSA program(s) in which they are interested or about which they have questions.

The revisions in this ICR are as follows:

a. The discontinuation of the print version of the NHSC and Nurse Corps Interest Capture Form, previously used by HRSA staff for sharing program information with health profession students and providers at national and regional conferences and campus recruiting events.

b. The addition of an online version of the NHSC and Nurse Corps Interest Capture Form, located on the HRSA website at https://bhw.hrsa.gov/about-us/ask-question.

Need and Proposed Use of the Information: The need and purpose of this information collection is to share resources and information regarding the NHSC and Nurse Corps Scholarship and Loan Repayment Programs with interested HRSA website (hrsa.gov) visitors.

Likely Respondents: Individuals and potential service sites interested in the NHSC or Nurse Corps Scholarship and Loan Repayment Programs.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
NHSC and Nurse Corps Interest Capture Form | 16,144 | 1 | 16,144 | .025 | 404
Total | 16,144 |  | 16,144 |  | 404

Amy P. McNulty,
Deputy Director, Executive Secretariat.

[FR Doc. 2023-00219 Filed 1-10-23; 8:45 am]

BILLING CODE 4165-15-P